DEPARTMENT OF HEALTH AND HUMAN SERVICES

Indian Health Service

Notice of Purchased/Referred Care Delivery Area Redesignation for the Minnesota Chippewa Tribe, Minnesota, Mille Lacs Band of Ojibwe

AGENCY: Indian Health Service, Health and Human Services.

ACTION: Final notice.

SUMMARY: Notice is hereby given that the Indian Health Service (IHS) has decided to expand the geographic boundaries of the Purchased/Referred Care Delivery Area (PRCDA) for the Mille Lacs Band of Ojibwe in the State of Minnesota to include the Minnesota counties of Crow Wing and Morrison in the State of Minnesota. The final PRCDA for the Mille Lacs Band of Ojibwe is now the Minnesota counties of Aitkin, Crow Wing, Kanebec, Mille Lacs, Morrison, and Pine. Mille Lacs Band of Ojibwe members residing outside of the PRCDA are eligible for direct care services, however, they are not eligible for Purchased/Referred Care (PRC) services. The sole purpose of this expansion is to authorize additional Mille Lacs Band of Ojibwe members and beneficiaries to receive PRC services.

DATES: This expansion is effective as of the publication date of this notice.

ADDRESSES: This notice can be found at https://www.federalregister.gov. Written requests for information should be delivered to: CAPT John Rael, Director, Office of Resource Access and Partnerships, Indian Health Service, 5600 Fishers Lane, Mail Stop 10E85C, Rockville, MD 20857, (301) 443-0609 (This is not a toll-free number).

SUPPLEMENTARY INFORMATION:

Inspection of Public Comments: All comments received before the close of the comment period are available for viewing by the public, including any personally identifiable or confidential business information that is included in a comment.

Background: The IHS provides services under regulations in effect as of September 15, 1987, and republished at 42 CFR part 136, subparts A-C. Subpart C defines a Contract Health Service Delivery Area (CHSDA), now referred to as a PRCDA, as the geographic area within which PRC will be made available by the IHS to members of an identified Indian community who reside in the PRCDA. Residence within a PRCDA by a person who is within the scope of the Indian health program, as set forth in 42 CFR 136.12, creates no legal entitlement to PRC but only potential eligibility for services. Services needed, but not available at an IHS/Tribal facility, are provided under the PRC program depending on the availability of funds, the relative medical priority of the services to be provided, and the actual availability and accessibility of alternate resources in accordance with the regulations.

As applicable to the Tribes, these regulations provide that, unless otherwise designated, a PRCDA shall consist of a county which includes all or part of a reservation and any county or counties which have a common boundary with the reservation (42 CFR 136.22(a)(6)). The regulations also provide that after consultation with the Tribal governing body or bodies on those reservations included within the PRCDA, the Secretary may, from time to time, redesignate areas within the United States for inclusion in or exclusion from a PRCDA. The regulations require that certain criteria must be considered before any redesignation is made. The criteria are as follows:

The number of Indians residing in the area proposed to be so included or excluded;

Whether the Tribal governing body has determined that Indians residing in the area near the reservation are socially and economically affiliated with the Tribe;

The geographic proximity to the reservation of the area whose inclusion or exclusion is being considered; and

The level of funding that would be available for the provision of PRC.

Additionally, the regulations require that any redesignation of a PRCDA must be made in accordance with the Administrative Procedure Act (5 U.S.C. 553). In compliance with this requirement, IHS published a proposed notice of redesignation of the Mille Lacs Band of Ojibwe PRCDA to include the Minnesota counties of Crow Wing and Morrison and requested public comments on October 14, 2020 (85 FR 65055). IHS did not receive any public comments in response to the proposed notice of redesignation.

In support of this expansion, IHS adopts the following findings of the Mille Lacs Band of Ojibwe, which had requested that IHS expand the Mille Lacs Band of Ojibwe PRCDA to include the Minnesota counties of Crow Wing and Morrison:

By expanding, the Mille Lacs Band of Ojibwe estimates the current eligible population will be increased by 324.

The Mille Lacs Band of Ojibwe has determined that these 324 individuals are members of the Mille Lacs Band of Ojibwe and they are socially and economically affiliated with the Mille Lacs Band of Ojibwe.

The expanded area, including Crow Wing and Morrison counties in the State of Minnesota, maintains a common boundary with the current PRCDA consisting of Aitkin, Kanebec, Mille Lacs, and Pine counties in the State of Minnesota.

The Mille Lacs Band of Ojibwe will use its existing Federal allocation for PRC funds to provide services to the expanded population. IHS will allocate no additional financial resources to the Mille Lacs Band of Ojibwe to provide services to Mille Lacs Band of Ojibwe members residing in Crow Wing and Morrison counties in the State of Minnesota.

Public Comments: IHS did not receive any public comments in response to the proposed notice of redesignation.

Tribe/reservation | County/state
Ak Chin Indian Community | Pinal, AZ.
Alabama-Coushatta Tribes of Texas | Polk, TX.¹
Alaska | Entire State.²
Arapahoe Tribe of the Wind River Reservation, Wyoming | Hot Springs, WY, Fremont, WY, Sublette, WY.
Aroostook Band of Micmacs | Aroostook, ME.³
Assiniboine and Sioux Tribes of the Fort Peck Indian Reservation, Montana | Daniels, MT, McCone, MT, Richland, MT, Roosevelt, MT, Sheridan, MT, Valley, MT.
Bad River Band of the Lake Superior Tribe of Chippewa Indians of the Bad River Reservation, Wisconsin | Ashland, WI, Iron, WI.
Bay Mills Indian Community, Michigan | Chippewa, MI.
Blackfeet Tribe of the Blackfeet Indian Reservation of Montana | Glacier, MT, Pondera, MT.
Brigham City Intermountain School Health Center, Utah | Permanently closed on May 17, 1984.⁴
Burns Paiute Tribe | Harney, OR.
California | Entire State, except for the counties listed in the footnote.⁵
Catawba Indian Nation (AKA Catawba Tribe of South Carolina) | All Counties in SC,⁶ Cabarrus, NC, Cleveland, NC, Gaston, NC, Mecklenburg, NC, Rutherford, NC, Union, NC.
Cayuga Nation | Alleghany, NY,⁷ Cattaraugus, NY, Chautauqua, NY, Erie, NY, Warren, PA.
Chickahominy Indian Tribe | New Kent, VA, James City, VA, Charles City, VA, Henrico, VA.⁸
Chickahominy Indian Tribe—Eastern Division | New Kent, VA, James City, VA, Charles City, VA, Henrico, VA.⁹
Cheyenne River Sioux Tribe of the Cheyenne River Reservation, South Dakota | Corson, SD, Dewey, SD, Haakon, SD, Meade, SD, Perkins, SD, Potter, SD, Stanley, SD, Sully, SD, Walworth, SD, Ziebach, SD.
Chippewa-Cree Indians of the Rocky Boy's Reservation, Montana | Chouteau, MT, Hill, MT, Liberty, MT.
Chitimacha Tribe of Louisiana | St. Mary Parish, LA.
Cocopah Tribe of Arizona | Yuma, AZ, Imperial, CA.
Coeur D'Alene Tribe | Benewah, ID, Kootenai, ID, Latah, ID, Spokane, WA, Whitman, WA.
Colorado River Indian Tribes of the Colorado River Indian Reservation, Arizona and California | La Paz, AZ, Riverside, CA, San Bernardino, CA, Yuma, AZ.
Confederated Salish and Kootenai Tribes of the Flathead Reservation | Flathead, MT, Lake, MT, Missoula, MT, Sanders, MT.
Confederated Tribes and Bands of the Yakama Nation | Klickitat, WA, Lewis, WA, Skamania, WA,¹⁰ Yakima, WA.
Confederated Tribes of Siletz Indians of Oregon | Benton, OR,¹¹ Clackamas, OR, Lane, OR, Lincoln, OR, Linn, OR, Marion, OR, Multnomah, OR, Polk, OR, Tillamook, OR, Washington, OR, Yamhill, OR.
Confederated Tribes of the Chehalis Reservation | Grays Harbor, WA, Lewis, WA, Thurston, WA.
Confederated Tribes of the Colville Reservation | Chelan, WA,¹² Douglas, WA, Ferry, WA, Grant, WA, Lincoln, WA, Okanogan, WA, Stevens, WA.
Confederated Tribes of the Coos, Lower Umpqua and Siuslaw Indians | Coos, OR,¹³ Curry, OR, Douglas, OR, Lane, OR, Lincoln, OR.
Confederated Tribes of the Goshute Reservation, Nevada and Utah | The entire State of Nevada, Juab, UT, Toole, UT.
Confederated Tribes of the Grand Ronde Community of Oregon | Marion, OR, Multnomah, OR, Polk, OR,¹⁴ Tillamook, OR, Washington, OR, Yamhill, OR.
Confederated Tribes of the Umatilla Indian Reservation | Umatilla, OR, Union, OR.
Confederated Tribes of the Warm Springs Reservation of Oregon | Clackamas, OR, Jefferson, OR, Linn, OR, Marion, OR, Wasco, OR.
Coquille Indian Tribe | Coos, OR, Curry, OR, Douglas, OR, Jackson, OR, Lane, OR.
Coushatta Tribe of Louisiana | Allen Parish, LA, the city limits of Elton, LA.¹⁵
Cow Creek Band of Umpqua Tribe of Indians | Coos, OR,¹⁶ Deshutes, OR, Douglas, OR, Jackson, OR, Josephine, OR, Klamath, OR, Lane, OR.
Cowlitz Indian Tribe | Clark, WA, Cowlitz, WA, King, WA, Lewis, WA, Peirce, WA, Skamania, WA, Thurston, WA, Columbia, OR,¹⁷ Kittitas, WA, Wahkiakum, WA.
Crow Creek Sioux Tribe of the Crow Creek Reservation, South Dakota | Brule, SD, Buffalo, SD, Hand, SD, Hughes, SD, Hyde, SD, Lyman, SD, Stanley, SD.
Crow Tribe of Montana | Big Horn, MT, Carbon, MT, Treasure, MT,¹⁸ Yellowstone, MT, Big Horn, WY, Sheridan, WY.
Eastern Band of Cherokee Indians | Cherokee, NC, Graham, NC, Haywood, NC, Jackson, NC, Swain, NC.
Eastern Shoshone Tribe of the Wind River Reservation, Wyoming | Hot Springs, WY, Fremont, WY, Sublette, WY.
Flandreau Santee Sioux Tribe of South Dakota | Moody, SD.
Forest County Potawatomi Community, Wisconsin | Forest, WI, Marinette, WI, Oconto, WI.
Fort Belknap Indian Community of the Fort Belknap Reservation of Montana | Blaine, MT, Phillips, MT.
Fort McDermitt Paiute and Shoshone Tribes of the Fort McDermitt Indian Reservation, Nevada and Oregon | The entire State of Nevada, Malheur, OR.
Fort McDowell Yavapai Nation, Arizona | Maricopa, AZ.
Fort Mojave Indian Tribe of Arizona, California and Nevada | The entire State of Nevada, Mohave, AZ, San Bernardino, CA.
Gila River Indian Community of the Gila River Indian Reservation, Arizona | Maricopa, AZ, Pinal, AZ.
Grand Traverse Band of Ottawa and Chippewa Indians, Michigan | Antrim, MI,¹⁹ Benzie, MI, Charlevoix, MI, Grand Traverse, MI, Leelanau, MI, Manistee, MI.
Hannahville Indian Community, Michigan | Delta, MI, Menominee, MI.
Haskell Indian Health Center | Douglas, KS.²⁰
Havasupai Tribe of the Havasupai Reservation, Arizona | Coconino, AZ, Mohave, AZ.²¹
Ho-Chunk Nation of Wisconsin | Adams, WI,²² Clark, WI, Columbia, WI, Crawford, WI, Dane, WI, Eau Claire, WI, Houston, MN, Jackson, WI, Juneau, WI, La Crosse, WI, Marathon, WI, Monroe, WI, Sauk, WI, Shawano, WI, Vernon, WI, Wood, WI.
Hoh Indian Tribe | Jefferson, WA.
Hopi Tribe of Arizona | Apache, AZ, Coconino, AZ, Navajo, AZ.
Houlton Band of Maliseet Indians | Aroostook, ME.²³
Hualapai Indian Tribe of the Hualapai Indian Reservation, Arizona | Coconino, AZ, Mohave, AZ, Yavapai, AZ.
Iowa Tribe of Kansas and Nebraska | Brown, KS, Doniphan, KS, Richardson, NE.
Jamestown S'Klallam Tribe | Clallam, WA, Jefferson, WA.
Jena Band of Choctaw Indians | Grand Parish, LA,²⁴ LaSalle Parish, LA, Rapides, LA.
Jicarilla Apache Nation, New Mexico | Archuleta, CO, Rio Arriba, NM, Sandoval, NM.
Kaibab Band of Paiute Indians of the Kaibab Indian Reservation, Arizona | Coconino, AZ, Mohave, AZ, Kane, UT.
Kalispel Indian Community of the Kalispel Reservation | Pend Oreille, WA, Spokane, WA.
Kewa Pueblo, New Mexico (previously listed as the Pueblo of Santo Domingo) | Sandoval, NM, Santa Fe, NM.
Keweenaw Bay Indian Community, Michigan | Baraga, MI, Houghton, MI, Ontonagon, MI.
Kickapoo Traditional Tribe of Texas | Maverick, TX.²⁵
Kickapoo Tribe of Indians of the Kickapoo Reservation in Kansas | Brown, KS, Jackson, KS.
Klamath Tribes | Klamath, OR.²⁶
Koi Nation of Northern California (formerly known as Lower Lake Rancheria, California) | Lake, CA, Sonoma, CA.²⁷
Kootenai Tribe of Idaho | Boundary, ID.
Lac Courte Oreilles Band of Superior Chippewa Indians of Wisconsin | Sawyer, WI.
Lac du Flambeau Band of Lake Superior Chippewa Indians of the Lac du Flambeau Reservation of Wisconsin | Iron, WI, Oneida, WI, Vilas, WI.
Lac Vieux Desert Band of Lake Superior Chippewa Indians of Michigan | Gogebic, MI.
Little River Band of Ottawa Indians, Michigan | Kent, MI,²⁸ Muskegon, MI, Newaygo, MI, Oceana, MI, Ottawa, MI, Manistee, MI, Mason, MI, Wexford, MI, Lake, MI.
Little Shell Tribe of Chippewa Indians of Montana | Blaine, MT, Cascade, MT, Glacier, MT, Hill, MT.²⁹
Little Traverse Bay Bands of Odawa Indians, Michigan | Alcona, MI,³⁰ Alger, MI, Alpena, MI, Antrim, MI, Benzie, MI, Charlevoix, MI, Cheboygan, MI, Chippewa, MI, Crawford, MI, Delta, MI, Emmet, MI, Grand Traverse, MI, Iosco, MI, Kalkaska, MI, Leelanau, MI, Luce, MI, Mackinac, MI, Manistee, MI, Missaukee, MI, Montmorency, MI, Ogemaw, MI, Oscoda, MI, Otsego, MI, Presque Isle, MI, Schoolcraft, MI, Roscommon, MI, Wexford, MI.
Lower Brule Sioux Tribe of the Lower Brule Reservation, South Dakota | Brule, SD, Buffalo, SD, Hughes, SD, Lyman, SD, Stanley, SD.
Lower Elwha Tribal Community | Clallam, WA.
Lower Sioux Indian Community in the State of Minnesota | Redwood, MN, Renville, MN.
Lummi Tribe of the Lummi Reservation | Whatcom, WA.
Makah Indian Tribe of the Makah Indian Reservation | Clallam, WA.
Mashantucket Pequot Indian Tribe | New London, CT.³¹
Mashpee Wampanoag Tribe | Barnstable, MA, Bristol, MA, Norfolk, MA, Plymouth, MA, Suffolk, MA.³²
Match-e-be-nash-she-wish Band of Pottawatomi Indians of Michigan | Allegan, MI,³³ Barry, MI, Kalamazoo, MI, Kent, MI, Ottawa, MI.
Menominee Indian Tribe of Wisconsin | Langlade, WI, Menominee, WI, Oconto, WI, Shawano, WI.
Mescalero Apache Tribe of the Mescalero Reservation, New Mexico | Chaves, NM, Lincoln, NM, Otero, NM.
Miccosukee Tribe of Indians | Broward, FL, Collier, FL, Miami-Dade, FL, Hendry, FL.
Minnesota Chippewa Tribe, Minnesota, Bois Forte Band (Nett Lake) | Itasca, MN, Koochiching, MN, St. Louis, MN.
Minnesota Chippewa Tribe, Minnesota, Fond du Lac Band | Carlton, MN, St. Louis, MN.
Minnesota Chippewa Tribe, Minnesota, Grand Portage Band | Cook, MN.
Minnesota Chippewa Tribe, Minnesota, Leech Lake Band | Beltrami, MN, Cass, MN, Hubbard, MN, Itasca, MN.
Minnesota Chippewa Tribe, Minnesota, Mille Lacs Band | Aitkin, MN, Crow Wing, MN,³⁴ Kanebec, MN, Mille Lacs, MN, Morrison, MN,³⁵ Pine, MN.
Minnesota Chippewa Tribe, Minnesota, White Earth Band | Becker, MN, Clearwater, MN, Mahnomen, MN, Norman, MN, Polk, MN.
Mississippi Band of Choctaw Indians | Attala, MS, Jasper, MS,³⁶ Jones, MS, Kemper, MS, Leake, MS, Neshoba, MS, Newton, MS, Noxubee, MS,³⁷ Scott, MS,³⁸ Winston, MS.
Mohegan Tribe of Indians of Connecticut | Fairfield, CT, Hartford, CT, Litchfield, CT, Middlesex, CT, New Haven, CT, New London, CT, Tolland, CT, Windham, CT.
Monacan Indian Nation | Amherst, VA, Nelson, VA, Albemarle, VA, Buckingham, VA, Appomattox, VA, Campbell, VA, Bedford, VA, Botetourt, VA, Rockbridge, VA, Augusta, VA, and the independent cities of Lynchburg, VA, Lexington, VA, Buena Vista, VA, Staunton, VA, Waynesboro, VA, and Charlottesville, VA.³⁹
Muckleshoot Indian Tribe | King, WA, Pierce, WA.
Nansemond Indian Tribe | The independent cities of Chesapeake, VA, Hampton, VA, Newport News, VA, Norfolk, VA, Portsmouth, VA, Suffolk, VA, and Virginia Beach, VA.⁴⁰
Narragansett Indian Tribe | Washington, RI.⁴¹
Navajo Nation, Arizona, New Mexico, & Utah | Apache, AZ, Bernalillo, NM, Cibola, NM, Coconino, AZ, Kane, UT, McKinley, NM, Montezuma, CO, Navajo, AZ, Rio Arriba, NM, Sandoval, NM, San Juan, NM, San Juan, UT, Socorro, NM, Valencia, NM.
Nevada | Entire State.⁴²
Nez Perce Tribe | Clearwater, ID, Idaho, ID, Latah, ID, Lewis, ID, Nez Perce, ID.
Nisqually Indian Tribe | Pierce, WA, Thurston, WA.
Nooksack Indian Tribe | Whatcom, WA.
Northern Cheyenne Tribe of the Northern Cheyenne Indian Reservation, Montana | Big Horn, MT, Carter, MT,⁴³ Rosebud, MT.
Northwestern Band of Shoshone Nation | Box Elder, UT,⁴⁴ Davis, UT, Salt Lake, UT, Weber, UT.⁴⁵
Nottawaseppi Huron Band of the Pottawatomi, Michigan | Allegan, MI,⁴⁶ Barry, MI, Branch, MI, Calhoun, MI, Kalamazoo, MI, Kent, MI, Ottawa, MI.
Oglala Sioux Tribe | Bennett, SD, Cherry, NE, Custer, SD, Dawes, NE, Fall River, SD, Jackson, SD,⁴⁷ Mellette, SD, Pennington, SD, Shannon, SD, Sheridan, NE, Todd, SD.
Ohkay Owingeh, New Mexico | Rio Arriba, NM.
Oklahoma | Entire State.⁴⁸
Omaha Tribe of Nebraska | Burt, NE, Cuming, NE, Monona, IA, Thurston, NE, Wayne, NE.
Oneida Nation (previously listed as the Oneida Tribe of Indians of Wisconsin) | Brown, WI, Outagamie, WI.
Oneida Indian Nation (previously listed as the Oneida Nation of New York) | Chenango, NY, Cortland, NY, Herkimer, NY, Madison, NY, Oneida, NY, Onondaga, NY.
Onondaga Nation | Onondaga, NY.
Paiute Indian Tribe of Utah | Iron, UT,⁴⁹ Millard, UT, Sevier, UT, Washington, UT.
Pamunkey Indian Tribe | Caroline, VA, Hanover, VA, Henrico, VA, King William, VA, King and Queen, VA, New Kent, VA, and the independent city of Richmond, VA.⁵⁰
Pascua Yaqui Tribe of Arizona | Pima, AZ.⁵¹
Passamaquoddy Tribe | Aroostook, ME,⁵² ⁵³ Hancock, ME,⁵⁴ Washington, ME.
Penobscot Nation | Aroostook, ME,⁵⁵ Penobscot, ME.
Poarch Band of Creeks | Baldwin, AL,⁵⁶ Elmore, AL, Escambia, AL, Mobile, AL, Monroe, AL, Escambia, FL.
Pokagon Band of Pottawatomi Indians, Michigan and Indiana | Allegan, MI,⁵⁷ Berrien, MI, Cass, MI, Elkhart, IN, Kosciusko, IN, La Porte, IN, Marshall, IN, St. Joseph, IN, Starke, IN, Van Buren, MI.
Ponca Tribe of Nebraska | Boyd, NE,⁵⁸ Burt, NE, Charles Mix, SD, Douglas, NE, Hall, NE, Holt, NE, Knox, NE, Lancaster, NE, Madison, NE, Platte, NE, Pottawatomie, IA, Sarpy, NE, Stanton, NE, Wayne, NE, Woodbury, IA.
Port Gamble S'Klallam Tribe | Kitsap, WA.
Prairie Band of Pottawatomi Nation | Jackson, KS.
Prairie Island Indian Community in the State of Minnesota | Goodhue, MN.
Pueblo of Acoma, New Mexico | Cibola, NM.
Pueblo of Cochiti, New Mexico | Sandoval, NM, Santa Fe, NM.
Pueblo of Isleta, New Mexico | Bernalillo, NM, Torrance, NM, Valencia, NM.
Pueblo of Jemez, New Mexico | Sandoval, NM.
Pueblo of Laguna, New Mexico | Bernalillo, NM, Cibola, NM, Sandoval, NM, Valencia, NM.
Pueblo of Nambe, New Mexico | Santa Fe, NM.
Pueblo of Picuris, New Mexico | Taos, NM.
Pueblo of Pojoaque, New Mexico | Rio Arriba, NM, Santa Fe, NM.
Pueblo of San Felipe, New Mexico | Sandoval, NM.
Pueblo of San Ildefonso, New Mexico | Los Alamos, NM, Rio Arriba, NM, Sandoval, NM, Santa Fe, NM.
Pueblo of Sandia, New Mexico | Bernalillo, NM, Sandoval, NM.
Pueblo of Santa Ana, New Mexico | Sandoval, NM.
Pueblo of Santa Clara, New Mexico | Los Alamos, NM, Sandoval, NM, Santa Fe, NM.
Pueblo of Taos, New Mexico | Colfax, NM, Taos, NM.
Pueblo of Tesuque, Mexico | Santa Fe, NM.
Pueblo of Zia, New Mexico | Sandoval, NM.
Puyallup Tribe of the Puyallup Reservation | King, WA, Pierce, WA, Thurston, WA.
Quechan Tribe of the Fort Yuma Indian Reservation, Arizona and California | Yuma, AZ, Imperial, CA.
Quileute Tribe of the Quileute Reservation | Clallam, WA, Jefferson, WA.
Quinault Indian Nation | Grays Harbor, WA, Jefferson, WA.
Rapid City, South Dakota | Pennington, SD.⁵⁹
Rappahannock Tribe, Inc. | King and Queen County, VA, Caroline County, VA, Essex County, VA, King William County, VA.⁶⁰
Red Cliff Band of Lake Superior Chippewa Indians of Wisconsin | Bayfield, WI.
Red Lake Band of Chippewa Indians, Minnesota | Beltrami, MN, Clearwater, MN, Koochiching, MN, Lake of the Woods, MN, Marshall, MN, Pennington, MN, Polk, MN, Roseau, MN.
Rosebud Sioux Tribe of the Rosebud Indian Reservation, South Dakota | Bennett, SD, Cherry, NE, Gregory, SD, Lyman, SD, Mellette, SD, Todd, SD, Tripp, SD.
Sac & Fox Nation of Missouri in Kansas and Nebraska | Brown, KS, Richardson, NE.
Sac & Fox Tribe of the Mississippi in Iowa | Tama, IA.
Saginaw Chippewa Indian Tribe of Michigan | Arenac, MI,⁶¹ Clare, MI, Isabella, MI, Midland, MI, Missaukee, MI.
Saint Regis Mohawk Tribe | Franklin, NY, St. Lawrence, NY.
Salt River Pima-Maricopa Indian Community of the Salt River Reservation, Arizona | Maricopa, AZ.
Samish Indian Nation | Clallam, WA,⁶² Island, WA, Jefferson, WA, King, WA, Kitsap, WA, Pierce, WA, San Juan, WA, Skagit, WA, Snohomish, WA, Whatcom, WA.
San Carlos Apache Tribe of the San Carlos Reservation, Arizona | Apache, AZ, Cochise, AZ, Gila, AZ, Graham, AZ, Greenlee, AZ, Pinal, AZ.
San Juan Southern Paiute Tribe of Arizona | Coconino, AZ, San Juan, UT.
Santee Sioux Nation, Nebraska | Bon Homme, SD, Knox, NE.
Sauk-Suiattle Indian Tribe | Snohomish, WA, Skagit, WA.
Sault Ste. Marie Tribe of Chippewa Indians, Michigan | Alger, MI,⁶³ Chippewa, MI, Delta, MI, Luce, MI, Mackinac, MI, Marquette, MI, Schoolcraft, MI.
Seminole Tribe of Florida | Broward, FL, Collier, FL, Miami-Dade, FL, Glades, FL, Hendry, FL.
Seneca Nation of Indians | Alleghany, NY, Cattaraugus, NY, Chautauqua, NY, Erie, NY, Warren, PA.
Shakopee Mdewakanton Sioux Community of Minnesota | Scott, MN.
Shinnecock Indian Nation | Nassau, NY,⁶⁴ Suffolk, NY.
Shoalwater Bay Tribe of the Shoalwater Bay Indian Reservation | Pacific, WA.
Shoshone-Bannock Tribes of the Fort Hall Reservation | Bannock, ID, Bingham, ID, Caribou, ID, Lemhi, ID,⁶⁵ Power, ID.
Shoshone-Paiute Tribes of the Duck Valley Reservation, Nevada | The entire state of Nevada, Owyhee, ID.
Sisseton-Wahpeton Oyate of the Lake Traverse Reservation, South Dakota | Codington, SD, Day, SD, Grant, SD, Marshall, SD, Richland, ND, Roberts, SD, Sargent, ND, Traverse, MN.
Skokomish Indian Tribe | Mason, WA.
Skull Valley Band of Goshute Indians of Utah | Tooele, UT.
Snoqualmie Indian Tribe | King, WA,⁶⁶ Snohomish, WA, Pierce, WA, Island, WA, Mason, WA.
Sokaogon Chippewa Community, Wisconsin | Forest, WI.
Southern Ute Indian Tribe of the Southern Ute Reservation, Colorado | Archuleta, CO, La Plata, CO, Montezuma, CO, Rio Arriba, NM, San Juan, NM.
Spirit Lake Tribe, North Dakota | Benson, ND, Eddy, ND, Nelson, ND, Ramsey, ND.
Spokane Tribe of the Spokane Reservation | Ferry, WA, Lincoln, WA, Stevens, WA.
Squaxin Island Tribe of the Squaxin Island Reservation | Mason, WA.
St. Croix Chippewa Indians of Wisconsin | Barron, WI, Burnett, WI, Pine, MN, Polk, WI, Washburn, WI.
Standing Rock Sioux Tribe of North & South Dakota | Adams, ND, Campbell, SD, Corson, SD, Dewey, SD, Emmons, ND, Grant, ND, Morton, ND, Perkins, SD, Sioux, ND, Walworth, SD, Ziebach, SD.
Stillaguamish Tribe of Indians of Washington | Snohomish, WA.
Stockbridge Munsee Community, Wisconsin | Menominee, WI, Shawano, WI.
Suquamish Indian Tribe of the Port Madison Reservation | Kitsap, WA.
Swinomish Indian Tribal Community | Skagit, WA.
Tejon Indian Tribe | The State of California including Kern, CA.⁶⁷
Three Affiliated Tribes of the Fort Berthold Reservation, North Dakota | Dunn, ND, Mercer, ND, McKenzie, ND, McLean, ND, Mountrail, ND, Ward, ND.
Tohono O'odham Nation of Arizona | Maricopa, AZ, Pima, AZ, Pinal, AZ.
Tolowa Dee-ni' Nation (formerly known as Smith River Rancheria of California) | California, Curry, OR.⁶⁸
Tonawanda Band of Seneca | Genesee, NY, Erie, NY, Niagara, NY.
Tonto Apache Tribe of Arizona | Gila, AZ.
Trenton Service Unit, North Dakota and Montana | Divide, ND,⁶⁹ McKenzie, ND, Williams, ND, Richland, MT, Roosevelt, MT, Sheridan, MT.
Tulalip Tribes of Washington | Snohomish, WA.
Tunica-Biloxi Indian Tribe | Avoyelles, LA, Rapides, LA.⁷⁰
Turtle Mountain Band of Chippewa Indians of North Dakota | Rolette, ND.
Tuscarora Nation | Niagara, NY.
Upper Mattaponi Tribe | Caroline, VA, Charles City, VA, Essex, VA, Hanover, VA, Henrico, VA, James City, VA, King and Queen, VA, King William, VA, Middlesex, VA, New Kent, VA, Richmond, VA and the independent city of Richmond, VA.⁷¹
Upper Sioux Community, Minnesota | Chippewa, MN, Yellow Medicine, MN.
Upper Skagit Indian Tribe | Skagit, WA.
Ute Indian Tribe of the Uintah & Ouray Reservation, Utah | Carbon, UT, Daggett, UT, Duchesne, UT, Emery, UT, Grand, UT, Rio Blanco, CO, Summit, UT, Uintah, UT, Utah, UT, Wasatch, UT.
Ute Mountain Ute Tribe | Apache, AZ, La Plata, CO, Montezuma, CO, San Juan, NM, San Juan, UT.
Wampanoag Tribe of Gay Head (Aquinnah) | Dukes, MA,⁷² Barnstable, MA, Bristol, MA, Norfolk, MA, Plymouth, MA, Suffolk, MA.⁷³
Washoe Tribe of Nevada & California | The State of Nevada, The State of California except for the counties listed in footnote.
White Mountain Apache Tribe of the Fort Apache Reservation, Arizona | Apache, AZ, Coconino, AZ, Gila, AZ, Graham, AZ, Greenlee, AZ, Navajo, AZ.
Wilton Rancheria, California | The State of California including Sacramento, CA.⁷⁴
Winnebago Tribe of Nebraska | Dakota, NE, Dixon, NE, Monona, IA, Thurston, NE, Wayne, NE, Woodbury, IA.
Yankton Sioux Tribe of South Dakota | Bon Homme, SD, Boyd, NE, Charles Mix, SD, Douglas, SD, Gregory, SD, Hutchinson, SD, Knox, NE.
Yavapai-Apache Nation of the Camp Verde Indian Reservation, Arizona | Yavapai, AZ.
Yavapai-Prescott Indian Tribe | Yavapai, AZ.
Ysleta Del Sur Pueblo of Texas | El Paso, TX.⁷⁵
Zuni Tribe of the Zuni Reservation, New Mexico | Apache, AZ, Cibola, NM, McKinley, NM, Valencia, NM.
¹ Public Law 100-89, Restoration Act for Ysleta Del Sur and Alabama and Coushatta Tribes of Texas establishes service areas for “members of the Tribe” by sections 101(3) and 105(a) for the Pueblo and sections 201(3) and 206(a) respectively.
² The Entire State of Alaska is included as a CHSDA by regulation (42 CFR 136.22(a)(1)).
³ Aroostook Band of Micmacs was recognized by Congress on November 26, 1991, through the Aroostook Band of Micmac Settlement Act. Aroostook County, ME, was defined as the SDA.
⁴ Special programs have been established by Congress irrespective of the eligibility regulations. Eligibility for services at these facilities is based on the legislative history of the appropriation of funds for the particular facility rather than the eligibility regulations. Historically services have been provided at Brigham City Intermountain School Health Center, Utah (Pub. L. 88-358).
⁵ Entire State of California, excluding the counties of Alameda, Contra Costa, Los Angeles, Marin, Orange, Sacramento, San Francisco, San Mateo, Santa Clara, Kern, Merced, Monterey, Napa, San Benito, San Joaquin, San Luis Obispo, Santa Cruz, Solano, Stanislaus, and Ventura, is designated a CHSDA (25 U.S.C. 1680).
⁶ The counties were recognized after the January 1984 CHSDA FRN was published, in accordance with Public Law 103-116, Catawba Indian Tribe of South Carolina Land Claims Settlement Act of 1993, dated October 27, 1993.
⁷ There is no reservation for the Cayuga Nation; the service delivery area consists of those counties identified by the Cayuga Nation.
⁸ The Thomasina E. Jordan Indian Tribes of Virginia Federal Recognition Act of 2017, Public Law 115-121, officially recognized the Chickahominy Indian Tribe as an Indian Tribe within the meaning of Federal law, and specified an area for the delivery of Federal services. The IHS administratively designated the Tribe's PRCDA, for the purposes of operating a PRC program, consistent with the Congressional intent expressed in the Recognition Act.
⁹ The Thomasina E. Jordan Indian Tribes of Virginia Federal Recognition Act of 2017, Public Law 115-121, officially recognized the Chickahominy Indian Tribe—Eastern Division as an Indian Tribe within the meaning of Federal law, and specified an area for the delivery of Federal services. The IHS administratively designated the Tribe's PRCDA, for the purposes of operating a PRC program, consistent with the Congressional intent expressed in the Recognition Act.
¹⁰ Skamania County, WA, has historically been a part of the Yakama Service Unit population since 1979.
¹¹ In order to carry out the Congressional intent of the Siletz Restoration Act, Public Law 95-195, as expressed in H. Report No. 95-623, at page 4, members of the Confederated Tribes of Siletz Indians of Oregon residing in these counties are eligible for contract health services.
¹² Chelan County, WA, has historically been a part of the Colville Service Unit population since 1970.
¹³ Pursuant to Public Law 98-481 (H. Rept. No. 98-904), Coos, Lower Umpqua and Siuslaw Restoration Act, members of the Tribe residing in these counties were specified as eligible for Federal services and benefits without regard to the existence of a Federal Indian reservation.
¹⁴ The Confederated Tribes of Grand Ronde Community of Oregon were recognized by Public Law 98-165 which was signed into law on November 22, 1983, and provides for eligibility in these six counties without regard to the existence of a reservation.
¹⁵ The CHSDA for the Coushatta Tribe of Louisiana was expanded administratively by the Director, IHS, through regulation (42 CFR 136.22(b)) to include city limits of Elton, LA.
¹⁶ Cow Creek Band of Umpqua Tribe of Indians recognized by Public Law 97-391, signed into law on December 29, 1983. House Rept. No. 97-862 designates Douglas, Jackson, and Josephine Counties as a service area without regard to the existence of a reservation. The IHS later administratively expanded the CHSDA to include the counties of Coos, OR, Deschutes, OR, Klamath, OR, and Lane, OR.
¹⁷ The Cowlitz Indian Tribe was recognized in July 2002 as documented at 67 FR 46329, July 12, 2002. The counties listed were designated administratively as the SDA, to function as a CHSDA, for the purposes of operating a CHS program pursuant to the ISDEAA, Public Law 93-638. The CHSDA was administratively expanded to included Columbia County, OR, Kittitas, WA, and Wahkiakum County, WA, as published at 67884 FR December 21, 2009.
¹⁸ Treasure County, MT, has historically been a part of the Crow Service Unit population.
¹⁹ The counties listed have historically been a part of the Grand Traverse Service Unit population since 1980.
²⁰ Haskell Indian Health Center has historically been a part of Kansas Service Unit since 1979. Special programs have been established by Congress irrespective of the eligibility regulations. Eligibility for services at these facilities is based on the legislative history of the appropriation of funds for the particular facility rather than the eligibility regulations. Historically services have been provided at Haskell Indian Health Center (H. Rept. No. 95-392).
²¹ The PRCDA for the Havasupai Tribe of Arizona was expanded administratively by the Director, IHS, through regulation (42 CFR 136.22(b)) to include Mohave County in the State of Arizona.
²² CHSDA counties for the Ho-Chunk Nation of Wisconsin were designated by regulation (42 CFR 136.22(a)(5)). Dane County, WI, was added to the reservation by the Bureau of Indian Affairs in 1986.
²³ Public Law 97-428 provides that any member of the Houlton Band of Maliseet Indians in or around the Town of Houlton shall be eligible without regard to existence of a reservation.
²⁴ The Jena Band of Choctaw Indian was Federally acknowledged as documented at 60 FR 28480, May 31, 1995. The counties listed were designated administratively as the SDA, to function as a CHSDA, for the purposes of operating a CHS program pursuant to the ISDEAA, Public Law 93-638.
²⁵ Kickapoo Traditional Tribe of Texas, formerly known as the Texas Band of Kickapoo, was recognized by Public Law 97-429, signed into law on January 8, 1983. The Act provides for eligibility for Kickapoo Tribal members residing in Maverick County without regard to the existence of a reservation.
²⁶ The Klamath Indian Tribe Restoration Act (Pub. L. 99-398, Sec. 2(2)) states that for the purpose of Federal services and benefits “members of the tribe residing in Klamath County shall be deemed to be residing in or near a reservation”.
²⁷ The Koi Nation of Northern California, formerly known as the Lower Lake Rancheria, was reaffirmed by the Secretary of the Bureau of Indian Affairs on December 29, 2000. The counties listed were designated administratively as the SDA, to function as a PRCDA, for the purposes of operating a PRC program pursuant to the ISDEAA, Public Law 93-638.
²⁸ The Little Traverse Bay Bands of Odawa Indians and the Little River Band of Ottawa Indians Act recognized the Little River Band of Ottawa Indians and the Little Traverse Bay Bands of Odawa Indians. Pursuant to Public Law 103-324, Sec.4 (b) the counties listed were designated administratively as the SDA, to function as a CHSDA, for the purposes of operating a CHS program pursuant to the ISDEAA, Public Law 93-638.
²⁹ In Public Law 116-92, that became law on December 20, 2019, Congress federally recognized the Little Shell Tribe of Chippewa Indians of Montana. Consistent with Public Law 116-92, the IHS designated the counties as the PRCDA for the Little Shell Tribe of Chippewa Indians of Montana.
³⁰ The Little Traverse Bay Bands of Odawa Indians and the Little River Band of Ottawa Indians Act recognized the Little River Band of Ottawa Indians and the Little Traverse Bay Bands of Odawa Indians. Pursuant to Public Law 103-324, Sec.4 (b) the counties listed were designated administratively as the SDA, to function as a CHSDA, for the purposes of operating a CHS program pursuant to the ISDEAA, Public Law 93-638.
³¹ Mashantucket Pequot Indian Claims Settlement Act, Public Law 98-134, signed into law on October 18, 1983, provides a reservation for the Mashantucket Pequot Indian Tribe in New London County, CT.
³² The Mashpee Wampanoag Tribe was recognized in February 2007, as documented at 72 FR 8007, February 22, 2007. The counties listed were designated administratively as the SDA, to function as a CHSDA, for the purposes of operating a CHS program pursuant to the ISDEAA, Public Law 93-638.
³³ The Match-e-be-nash-she-wish Band of Pottawatomi Indians of Michigan was recognized in October 1998, as documented at 63 FR 56936, October 23, 1998. The counties listed were designated administratively as the SDA, to function as a CHSDA, for the purposes of operating a CHS program pursuant to the ISDEAA, Public Law 93-638.
³⁴ The PRCDA for the Mille Lacs Band of Ojibwe was expanded administratively by the Director, IHS, through regulation (42 CFR 136.22(b)) to include the counties of Crow Wing and Morrison in the State of Minnesota.
³⁵ The PRCDA for the Mille Lacs Band of Ojibwe was expanded administratively by the Director, IHS, through regulation (42 CFR 136.22(b)) to include the counties of Crow Wing and Morrison in the State of Minnesota.
³⁶ Members of the Mississippi Band of Choctaw Indians residing in Jasper and Noxubee Counties, MS, are eligible for contract health services; these two counties were inadvertently omitted from 42 CFR 136.22.
³⁷ Members of the Mississippi Band of Choctaw Indians residing in Jasper and Noxubee Counties, MS, are eligible for contract health services; these two counties were inadvertently omitted from 42 CFR 136.22.
³⁸ Scott County, MS, has historically been a part of the Choctaw Service Unit population since 1970.
³⁹ The Thomasina E. Jordan Indian Tribes of Virginia Federal Recognition Act of 2017, Public Law 115-121, officially recognized the Monacan Indian Nation as an Indian Tribe within the meaning of Federal law, and specified an area for the delivery of Federal services. The IHS administratively designated the Tribe's PRCDA, for the purposes of operating a PRC program, consistent with the Congressional intent expressed in the Recognition Act.
⁴⁰ The Thomasina E. Jordan Indian Tribes of Virginia Federal Recognition Act of 2017, Public Law 115-121, officially recognized the Nansemond Indian Tribe as an Indian Tribe within the meaning of Federal law, and specified an area for the delivery of Federal services. The IHS administratively designated the Tribe's PRCDA, for the purposes of operating a PRC program, consistent with the Congressional intent expressed in the Recognition Act.
⁴¹ The Narragansett Indian Tribe was recognized by Public Law 95-395, signed into law September 30, 1978. Lands in Washington County, RI, are now Federally restricted and the Bureau of Indian Affairs considers them as the Narragansett Indian Reservation.
⁴² Entire State of Nevada is included as a CHSDA by regulation (42 CFR 136.22 (a)(2)).
⁴³ Carter County, MT, has historically been a part of the Northern Cheyenne Service Unit population since 1979.
⁴⁴ Land of Box Elder County, Utah, was taken into trust for the Northwestern Band of Shoshone Nation in 1986.
⁴⁵ The PRCDA for the Northwestern Band of Shoshone Nation was expanded administratively by the Director, IHS, through regulation (42 CFR 136.22(b)) to include the counties of Davis, Salt Lake, and Weber, in the State of Utah.
⁴⁶ The Nottawaseppi Huron Band of the Potawatomi, Michigan, formerly known as the Huron Band of Potawatomi, Inc., was recognized in December 1995, as documented at 60 FR 66315, December 21, 1995. The counties listed were designated administratively as the SDA, to function as a CHSDA, for the purposes of operating a CHS program pursuant to the ISDEAA, Public Law 93-638.
⁴⁷ Washabaugh County, SD, merged and became part of Jackson County, SD, in 1983; both were/are CHSDA counties for the Oglala Sioux Tribe.
⁴⁸ Entire State of Oklahoma is included as a CHSDA by regulation (42 CFR 136.22 (a)(3)).
⁴⁹ Paiute Indian Tribe of Utah Restoration Act, Public Law 96-227, provides for the extension of services for the Paiute Indian Tribe of Utah to these four counties without regard to the existence of a reservation.
⁵⁰ In the Federal Register on July 8, 2015 (80 FR 39144), the Pamunkey Indian Tribe was officially recognized as an Indian Tribe within the meaning of Federal law. The counties listed were designated administratively as the PRCDA, for the purposes of operating a PRC program.
⁵¹ Legislative history (H.R. Report No. 95-1021) to Public Law 95-375, Extension of Federal Benefits to Pascua Yaqui Indians, Arizona, expresses congressional intent that lands conveyed to the Pascua Yaqui Tribe of Arizona pursuant to Act of October 8, 1964. (Pub. L. 88-350) shall be deemed a Federal Indian Reservation.
⁵² The Maine Indian Claims Settlement Act of 1980 (Pub. L. 96-420; H. Rept. 96-1353) includes the intent of Congress to fund and provide contract health services to the Passamaquoddy Tribe and the Penobscot Nation.
⁵³ The Passamaquoddy Tribe has two reservations: Indian Township and Pleasant Point. The PRCDA for the Passamaquoddy Tribe at Indian Township, ME, is Aroostook County, ME, Washington County, ME, and Hancock County, ME. The PRCDA for the Passamaquoddy Tribe at Pleasant Point, ME, is Washington County, ME, south of State Route 9, and Aroostook County, ME.
⁵⁴ The Passamaquoddy Tribe's counties listed are designated administratively as the SDA, to function as a PRCDA, for the purposes of operating a PRC program pursuant to the ISDEAA, Public Law 93-638.
⁵⁵ The Maine Indian Claims Settlement Act of 1980 (Pub. L. 96-420; H. Rept. 96-1353) includes the intent of Congress to fund and provide PRC to the Passamaquoddy Tribe and the Penobscot Nation.
⁵⁶ Counties in the Service Unit designated by Congress for the Poarch Band of Creek Indians (see H. Rept. 98-886, June 29, 1984; Cong. Record, October 10, 1984, Pg. H11929).
⁵⁷ Public Law 103-323 restored Federal recognition to the Pokagon Band of Potawatomi Indians, Michigan and Indiana, in 1994 and identified counties to serve as the SDA.
⁵⁸ The Ponca Restoration Act, Public Law 101-484, recognized members of the Ponca Tribe of Nebraska in Boyd, Douglas, Knox, Madison or Lancaster counties of Nebraska or Charles Mix county of South Dakota as residing on or near a reservation. Public Law 104-109 made technical corrections to laws relating to Native Americans and added Burt, Hall, Holt, Platte, Sarpy, Stanton, and Wayne counties of Nebraska and Pottawatomie and Woodbury counties of Iowa to the Ponca Tribe of Nebraska SDA.
⁵⁹ Special programs have been established by Congress irrespective of the eligibility regulations. Eligibility for services at these facilities is based on the legislative history of the appropriation of funds for the particular facility, rather than the eligibility regulations. Historically services have been provided at Rapid City (S. Rept. No. 1154, FY 1967 Interior Approp. 89th Cong. 2d Sess.).
⁶⁰ The Thomasina E. Jordan Indian Tribes of Virginia Federal Recognition Act of 2017, Public Law 115-121, officially recognized the Rappahannock Tribe, Inc. as an Indian Tribe within the meaning of Federal law, and specified an area for the delivery of Federal services. The IHS administratively designated the Tribe's PRCDA, for the purposes of operating a PRC program, consistent with the Congressional intent expressed in the Recognition Act.
⁶¹ Historically part of Isabella Reservation Area for the Saginaw Chippewa Indian Tribe of Michigan and the Eastern Michigan Service Unit population since 1979.
⁶² The Samish Indian Tribe Nation was Federally acknowledged in April 1996 as documented at 61 FR 15825, April 9, 1996. The counties listed were designated administratively as the SDA, to function as a CHSDA, for the purposes of operating a CHS program pursuant to the ISDEAA, Public Law 93-638.
⁶³ CHSDA counties for the Sault Ste. Marie Tribe of Chippewa Indians, Michigan, were designated by regulation (42 CFR 136.22(a)(4)).
⁶⁴ The Shinnecock Indian Nation was Federally acknowledged in June 2010 as documented at 75 FR 34760, June 18, 2010. The counties listed were designated administratively as the SDA, to function as a CHSDA, for the purposes of operating a CHS program pursuant to the ISDEAA, Public Law 93-638.
⁶⁵ Lemhi County, ID, has historically been a part of the Fort Hall Service Unit population since 1979.
⁶⁶ The Snoqualmie Indian Tribe was Federally acknowledged in August 1997 as documented at 62 FR 45864, August 29, 1997. The counties listed were designated administratively as the SDA, to function as a CHSDA, for the purposes of operating a CHS program pursuant to the ISDEAA, Public Law 93-638.
⁶⁷ On December 30, 2011 the Office of Assistant Secretary-Indian Affairs reaffirmed the Federal recognition of the Tejon Indian Tribe. Kern County, CA, was designated administratively as part of the Tribe's CHSDA in addition to the CHSDA established by Congress for the State of California. Kern County was not covered when Congress originally established the State of California as a CHSDA excluding certain counties including Sacramento County (25 U.S.C. 1680).
⁶⁸ The counties listed are designated administratively as the SDA, to function as a PRC SDA, for the purposes of operating a PRC program pursuant to the ISDEAA, Public Law 93-638.
⁶⁹ The Secretary acting through the Service is directed to provide contract health services to Turtle Mountain Band of Chippewa Indians that reside in Trenton Service Unit, North Dakota and Montana, in Divide, Mackenzie, and Williams counties in the state of North Dakota and the adjoining counties of Richland, Roosevelt, and Sheridan in the state of Montana (Sec. 815, Pub. L. 94-437).
⁷⁰ Rapides County, LA, has historically been a part of the Tunica Biloxi Service Unit population since 1982.
⁷¹ The Thomasina E. Jordan Indian Tribes of Virginia Federal Recognition Act of 2017, Public Law 115-121, officially recognized the Upper Mattaponi Tribe as an Indian Tribe within the meaning of Federal law, and specified an area for the delivery of Federal services. The IHS administratively designated the Tribe's PRCDA, for the purposes of operating a PRC program, consistent with the Congressional intent expressed in the Recognition Act.
⁷² according to Public Law 100-95, Sec. 12, members of the Wampanoag Tribe of Gay Head (Aquinnah) residing on Martha's Vineyard are deemed to be living on or near an Indian reservation for the purposes of eligibility for Federal services.
⁷³ The counties listed are designated administratively as the SDA, to function as a PRCDA, for the purposes of operating a PRC program pursuant to the ISDEAA, Public Law 93-638.
⁷⁴ The Wilton Rancheria, California had Federal recognition restored in July 2009 as documented at 74 FR 33468, July 13, 2009. Sacramento County, CA, was designated administratively as part of the Rancheria's CHSDA in addition to the CHSDA established by Congress for the State of California. Sacramento County was not covered when Congress originally established the State of California as a CHSDA excluding certain counties including Sacramento County (25 U.S.C. 1680).
⁷⁵ Public Law 100-89, Restoration Act for Ysleta Del Sur and Alabama and Coushatta Tribes of Texas establishes service areas for “members of the Tribe” by sections 101(3) and 105(a) for the Pueblo and sections 201(3) and 206(a) respectively.

Elizabeth A. Fowler,
Acting Director, Indian Health Service.

[FR Doc. 2022-08152 Filed 4-15-22; 8:45 am]

BILLING CODE 4165-16-P